DEPARTMENT OF COMMERCE

International Trade Administration

[A-570-851]

Certain Preserved Mushrooms From the People's Republic of China: Final Results of Antidumping Duty Administrative Review and Rescission in Part

AGENCY: Import Administration, International Trade Administration, Department of Commerce.

DATES: Effective Date: September 14, 2011.

SUMMARY: On March 8, 2011, the Department of Commerce (the Department) published in the Federal Register the preliminary results of administrative review of the antidumping duty order on certain preserved mushrooms from the People's Republic of China (PRC). See Certain Preserved Mushrooms From the People's Republic of China: Preliminary Results of Antidumping Duty Administrative Review, Recission in Part, and Intent to Rescind in Part, 76 FR 12704 (March 8, 2011) (Preliminary Results). Based upon our analysis of comments received from interested parties, we made changes to the margin calculations for the final results.

FOR FURTHER INFORMATION CONTACT: Fred Baker, Scott Hoefke, or Robert James, AD/CVD Operations, Office 7, Import Administration, International Trade Administration, U.S. Department of Commerce, 14th Street and Constitution Avenue, NW., Washington, DC 20230; telephone: (202) 482-2924, (202) 482-4947 or (202) 482-0649, respectively.

SUPPLEMENTARY INFORMATION:

Background

On March 8, 2011, the Department published the Preliminary Results of administrative review of the antidumping duty order on certain preserved mushrooms from the PRC. On March 28, 2011, Monterrey Mushrooms, Inc. (Petitioner), Blue Field (Sichuan) Food Industrial Co., Ltd. (Blue Field) and Xiamen International Trade & Industrial Co., Ltd. (XITIC) submitted additional information for proposed surrogate values. On April 21, 2011, Blue Field submitted comments regarding the Preliminary Results.¹

¹ Blue Field had originally submitted comments on March 14, 2011. However, those comments were deemed to have new information and were returned to Blue Field on April 15, 2011. See letter to Blue Field, dated April 15, 2011.

In the Preliminary Results, the Department invited interested parties to submit case briefs within 30 days of publication of the Preliminary Results and rebuttal briefs within five days after the due date for filing case briefs. See Preliminary Results, 76 FR at 12710. We received case briefs from Guangxi Jisheng Foods, Inc. (Jisheng) and XITIC on April 7, 2011, and a case brief from Petitioner on April 8, 2011. On April 12, 2011, the Department extended the due date for rebuttal briefs by two days. Rebuttal briefs from XITIC and Petitioner were received April 12, 2011, and April 15, 2011, respectively. On April 20, 2011, we extended the due date for Blue Field's rebuttal brief until April 25, 2011.² On April 21, 2011, we received a rebuttal brief from Blue Field.

² See Memorandum to the File, From Fred Baker, Analyst, Subject: Due Date for Rebuttal Brief from Blue Field (Sichuan) Food Industrial Co., Ltd. (Blue Field), dated April 20, 2011.

On June 6, 2011, the Department issued a letter to parties soliciting comments regarding the conversion factor used for the surrogate value of manure in the Preliminary Results. On June 13, 2011, the Department received comments from both the petitioner and XITIC concerning this issue.

On July 13, 2011 we extended the due date for the final results of this review by sixty days. See Certain Preserved Mushrooms From the People's Republic of China; Extension of time Limit for Final Results of Antidumping Duty Administrative Review, 76 FR 41215 (July 13, 2011).

Analysis of Comments Received

All issues raised in the case and rebuttal briefs by parties to this review are addressed in the memorandum entitled, “Issues and Decision Memorandum for the Final Results in the Administrative Review of Certain Preserved Mushrooms from the People's Republic of China,” which is dated concurrently with and adopted by this notice (Decision Memorandum). A list of the issues raised, and to which we respond in the Decision Memorandum, is attached to this notice as an appendix. The Decision Memorandum is a public document, and is on file in the Central Records Unit (CRU), Main Commerce Building, Room 7046, and is accessible on the Department's Web site at http://www.trade.gov/ia. The paper copy and electronic version of the memorandum are identical in content.

Final Rescission in Part

In the Preliminary Results, the Department announced its intent to rescind the review with respect to five companies who claimed they made no shipments of subject merchandise during the period of review (POR). We made inquiries with CBP as to whether any shipments were entered with respect to these five companies during the POR. See CBP message numbers 0347302, 0347303, 0347304, 0347305, and 0347306, all dated December 13, 2010. We received no responses from CBP to those inquiries. We also examined CBP information used in the selection of the mandatory respondents to further confirm no shipments by these companies during the POR. See the attachment to “Letter from Robert James to All Interested Parties” dated April 2, 2010. The five companies are: Dujianghyan Xingda Foodstuff Co., Fujian Pinghe Baofeng Canned Foods, Fujian Zishan Group Co., Ltd., Longhai Guangfa Food Co., and Xiamen Longhuai Import & Export Co. See Preliminary Results 76 FR at 12705. Because the Department did not receive any information to the contrary, we continue to find that these companies did not make any shipments during the POR. Thus, for these final results, we are rescinding this review, with respect to the five above-named companies, in accordance with 19 CFR 351.213(d)(3).

Period of Review

The POR is February 1, 2009, through January 31, 2010.

Scope of the Order

The products covered by this order are certain preserved mushrooms, whether imported whole, sliced, diced, or as stems and pieces. The certain preserved mushrooms covered under this order are the species Agaricus bisporus and Agaricus bitorquis. “Certain Preserved Mushrooms” refers to mushrooms that have been prepared or preserved by cleaning, blanching, and sometimes slicing or cutting. These mushrooms are then packed and heated in containers including, but not limited to, cans or glass jars in a suitable liquid medium, including, but not limited to, water, brine, butter or butter sauce. Certain preserved mushrooms may be imported whole, sliced, diced, or as stems and pieces. Included within the scope of this order are “brined” mushrooms, which are presalted and packed in a heavy salt solution to provisionally preserve them for further processing.³

³ On June 19, 2000, the Department affirmed that “marinated,” “acidified,” or “pickled” mushrooms containing less than 0.5 percent acetic acid are within the scope of the antidumping duty order. See Recommendation Memorandum—Final Ruling of Request by Tak Fat, et al. for Exclusion of Certain Marinated, Acidified Mushrooms from the Scope of the Antidumping Duty Order on Certain Preserved Mushrooms from the People's Republic of China,” dated June 19, 2000. On February 9, 2005, the United States Court of Appeals for the Federal Circuit upheld this decision. See Tak Fat v. United States, 396 F.3d 1378 (Fed. Cir. 2005).

Excluded from the scope of this order are the following: (1) All other species of mushroom, including straw mushrooms; (2) all fresh and chilled mushrooms, including “refrigerated” or “quick blanched mushrooms;” (3) dried mushrooms; (4) frozen mushrooms; and (5) “marinated,” “acidified,” or “pickled” mushrooms, which are prepared or preserved by means of vinegar or acetic acid, but may contain oil or other additives.

The merchandise subject to this order is classifiable under subheadings: 2003.10.0127, 2003.10.0131, 2003.10.0137, 2003.10.0143, 2003.10.0147, 2003.10.0153, and 0711.51.0000 of the Harmonized Tariff Schedule of the United States (HTSUS). Although the HTSUS subheadings are provided for convenience and Customs purposes, the written description of the scope of this order is dispositive.

Changes Since the Preliminary Results

Based on a review of the record and comments received from interested parties regarding our Preliminary Results, we have made revisions to certain surrogate values (SVs) and the margin calculation for XITIC, Blue Field, and Jisheng. These changes are discussed in the relevant sections of the Decision Memorandum.

Separate Rates Determination

In proceedings involving NME countries, it is the Department's practice to begin with a rebuttable presumption that all companies within the country are subject to government control and thus should be assessed a single antidumping duty rate. See Policy Bulletin 5.1; ⁴ see also Notice of Final Determination of Sales at Less Than Fair Value, and Affirmative Critical Circumstance, In Part: Certain Lined Paper Products From the People's Republic of China, 71 FR 53079, 53080 (September 8, 2006); and Final Determination of Sales at less Than Fair Value and Final Partial Affirmative Determination of Sales at Less Than Fair Value and Final Partial Affirmative Determination of Critical Circumstances: Diamond Sawblades and Parts Thereof from the People's Republic of China, 71 FR 29303, 29307 (May 22, 2006).

⁴ Separate Rates and Combination Rates in Antidumping Investigations involving Non-Market Economy Countries, 70 FR 17233 (April 5, 2005), also available at: http://ia.ita.doc.gov/policy/index.html. (Policy Bulletin 5.1)

In the Preliminary Results, the Department preliminarily determined that the following companies met the criteria for separate rate status: Ayecue (Liaocheng) Foodstuff Co., Ltd., Fujian Golden Banyan Foodstuffs Industrial Co., Ltd., Shandong Jiufa Edible Fungus Corporation, Ltd., and Zheijiang Iceman Group Co., Ltd.⁵

⁵ We also preliminarily found that Zhangzhou Gangchang Canned Foods Co., Ltd. met the requirements for a separate rate, but we rescinded the review with respect to this company in the Preliminary Results, due to the petitioner withdrawing its request. See Preliminary Results at 12705.

Additionally, in the Preliminary Results, we noted that the Department received completed responses to separate-rate questions from Blue Field, Jisheng, and XITIC in their Section A questionnaire responses. We also received separate-rate certifications from Blue Field and XITIC. We preliminary granted separate rate status to Blue Field, Jisheng, and XITIC based on this submitted information. See Preliminary Results, 76 FR at 12705-12707.

We did not receive any information since the issuance of the Preliminary Results that provides a basis for reconsidering these preliminary separate-rate determinations. Therefore, the Department continues to find that Blue Field, Jisheng, XITIC, and the four above-named, non-individually examined companies meet the criteria for a separate rate.

Separate Rate Calculation

The separate rate is deteremined based on the estimated weighted-average antidumping margins established for exporters and producers selected for individual review (i.e., mandatory respondents). Respondents other than mandatory respondents will receive the weighted-average of the margins calculated for those companies selected, excluding de minimis margins or margins based entirely on adverse facts available. In this review, we have assigned the weighted average of the three mandatory respondents to the companies not selected for individual examination.

Final Results of the Review

The Department has determined that the following margins exist for the period February 1, 2009, through January 31, 2010.

Exporter | Weighted-average margin (percent)
Blue Field (Sichuan) Food Industrial Co., Ltd | 20.42
Guangxi Jisheng Foods, Inc | 266.13
Xiamen International Trade & Industrial Co., Ltd | 13.12
Ayecue (Liaocheng) Foodstuff Co., Ltd | 84.55
Fujian Golden Banyan Foodstuffs Industrial Co., Ltd | 84.55
Shandong Jiufa Edible Fungus Corporation, Ltd | 84.55
Zheijiang Iceman Group Co., Ltd | 84.55

Assessment Rates

The Department has determined, and U.S. Customs and Border Protection (CBP) shall assess, antidumping duties on all appropriate entries. The Department intends to issue assessment instructions to CBP 15 days after the date of publication of these final results of review.

In accordance with 19 CFR 351.212(b)(1), we calculated exporter/importer-specific (or customer-specific) assessment rates for merchandise subject to this review. Jisheng reported entered values for its U.S. sales; thus we calculated importer (or customer) specific ad valorem rates by aggregating the dumping margins calculated for all U.S. sales to each importer (or customer), and dividing this amount by the entered value of the sales to each importer (or customer). However, Blue Field and XITIC did not report entered values for their U.S. sales. Accordingly, we calculated a per-unit assessment rate for each importer (or customer) by dividing the total dumping margins for reviewed sales to that party by the total sales quantity associated with those transactions. For duty-assessment rates calculated on this basis, we will direct CBP to assess the resulting per-unit rate against the entered quantity of the subject merchandise.

To determine whether the duty assessment rates were de minimis, in accordance with the requirement set forth in 19 CFR 351.106(c)(2), the Department calculated importer-specific ad valorem ratios based on the entered value or the estimated entered value, when entered value was not reported. Pursuant to 19 CFR 351.106(c)(2), we will instruct CBP to liquidate without regard to antidumping duties any entries for which the assessment rate is de minimis (i.e., less than 0.50 percent).

We intend to instruct CBP to liquidate entries of subject merchandise exported by the PRC-wide entity at the estimated antidumping duty rate in effect at the time of entry. Because the PRC-wide entity was not reviewed during this POR, the PRC-wide rate remains 198.63 percent, the rate established in the administrative review for the most recent period.

Cash Deposit Requirements

The following cash deposit requirements, when imposed, will be effective upon publication of the final results of this review for all shipments of subject merchandise entered, or withdrawn from warehouse, for consumption on or after the publication date, as provided by section 751(a)(2)(C) of the Tariff Act of 1930, as amended (1930): (1) The cash-deposit rate for each of the reviewed companies that received a separate rate in this review will be the rate listed in the final results of this review (except that if the rate for a particular company is de minimis, i.e., less than 0.50 percent, no cash deposit will be required for that company); (2) for previously investigated companies not listed above, the cash deposit rate will continue to be the company-specific rate published for the most recent period of review; (3) if the exporter is a firm not covered in this review, a prior review, or the original less-than-fair-value investigation, but the manufacturer is, the cash deposit rate will be the rate established for the most recent period for the manufacturer of the subject merchandise; and (4) the cash deposit rate for all other manufacturers or exporters will be the PRC-wide rate of 198.63 percent. These cash deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in the Secretary's presumption that reimbursement of antidumping duties occurred and the subsequent assessment of double antidumping duties.

Administrative Protective Order

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act.

Dated: September 6, 2011.
Ronald K. Lorentzen,
Deputy Assistant Secretary for Import Administration.

Appendix

Comment 1. Surrogate Value for Fresh Mushrooms.

Comment 2. Surrogate Value for Cow Manure.

Comment 3. Ministerial Errors with Respect to International Freight.

Comment 4 Surrogate Value for International Freight.

Comment 5. Computation of Domestic Inland Freight.

Comment 6. Surrogate Value for Natural Gas.

Comment 7. Whether to Apply Adverse Facts Available to Certain of Jisheng's U.S. sales.

Comment 8. Whether to Apply Adverse Facts Available for Certain of Jisheng's Sales for Which Jisheng Reported No Packing Costs.

Comment 9. Whether the Department's Failure to Consider Jisheng's February 2011 Submission in the Preliminary Results was Improper and Not Supported by Law.

Comment 10. Casing Soil Usage.

Comment 11. Surrogate Value of Lime.

Comment 12. Surrogate Value of Steam Coal.

Comment 13. Surrogate Value of Mushroom Spawn.

Comment 14. Zeroing.

Comment 15. Error of Normal Value Calculation by Different Units of Measurement.

Comment 16. Calculating Cost of Metal Lid.

Comment 17. Calculation of Land Rent.

[FR Doc. 2011-23557 Filed 9-13-11; 8:45 am]

BILLING CODE 3510-DS-P